DEPARTMENT OF ENERGY

Nuclear Regulatory Commission

[Docket No. 50-298]

Nebraska Public Power District; Notice of Withdrawal of Application for Amendment to Facility Operating License

The U.S. Nuclear Regulatory Commission (the Commission) has granted the request of Nebraska Public Power District (the licensee) to withdraw its June 8, 1999, application for the proposed amendment to Facility Operating License No. DPR-46 for the Cooper Nuclear Station, located in Nemaha County, Nebraska.

The proposed amendment would have revised the Technical Specifications to correct the method by which the Standby Gas Treatment System heaters are tested.

The Commission had previously issued a Notice of Consideration of Issuance of Amendment published in the Federal Register on July 14, 1999 (64 FR 38030). However, by letter dated September 29, 2000, the licensee withdrew the proposed change.

For further details with respect to this action, see the application for amendment dated June 8, 1999, and the licensee's letter dated September 29, 2000, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 26th day of October 2000.
For the Nuclear Regulatory Commission.
Mohan C. Thadani,
Senior Project Manager, Section 1, Project Directorate IV & Decommissioning, Division of Licensing Project Management, Office of Nuclear Reactor Regulation.

[FR Doc. 00-28123 Filed 11-01-00; 8:45 am]

BILLING CODE 7590-01-P